DEPARTMENT OF HOMELAND SECURITY

Transportation Security Administration

New Agency Information Collection Activity Under OMB Review: National Explosives Detection Canine Team Program (NEDCTP), Training Course Feedback Forms

AGENCY: Transportation Security Administration, DHS.

ACTION: Notice.

SUMMARY: This notice announces that the Transportation Security Administration (TSA) has forwarded the new Information Collection Request (ICR) abstracted below to the Office of Management and Budget (OMB) for review and approval under the Paperwork Reduction Act. The ICR describes the nature of the information collection and its expected burden. TSA published a Federal Register notice, with a 60-day comment period soliciting comments, of the following collection of information on August 9, 2006, 71 FR 45573.

DATES: Send your comments by November 15, 2006. A comment to OMB is most effective if OMB receives it within 30 days of publication.

ADDRESSES: Interested persons are invited to submit written comments on the proposed information collection to the Office of Information and Regulatory Affairs, Office of Management and Budget. Comments should be addressed to Nathan Lesser, Desk Officer, Department of Homeland Security/TSA, and sent via electronic mail to oira_submission@omb.eop.gov or faxed to (202) 395-6974.

FOR FURTHER INFORMATION CONTACT: Katrina Kletzly, Attorney-Advisor, Office of the Chief Counsel, TSA-2, Transportation Security Administration, 601 South 12th Street, Arlington, VA 22202-4220; telephone (571) 227-1995; facsimile (571) 227-1381.

SUPPLEMENTARY INFORMATION:

Comments Invited

In accordance with the Paperwork Reduction Act of 1995 (44 U.S.C. 3501 et seq.), an agency may not conduct or sponsor, and a person is not required to respond to, a collection of information unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: National Explosives Detection Canine Team Program (NEDCTP), Training Course Feedback Forms.

Type of Request: New collection.

OMB Control Number: Not yet assigned.

Form(s): Training Course Feedback Forms.

Affected Public: Canine course participants.

Abstract: The National Explosives Detection Canine Team Program (NEDCTP) is a component of TSA's Office of Law Enforcement/Federal Air Marshal Service and is a cooperative partnership with participating airports and mass transit systems. TSA provides and trains the canines, and provides in-depth training for the handlers. TSA also partially reimburses the participating agency for costs associated with the teams, such as salaries, overtime, canine food, and veterinary care. Following training, TSA requests that handlers and supervisors complete TSA's Training Course Feedback Form. TSA will use the feedback results to continuously evaluate the quality of training, improve the course curriculum and course of instruction, as well as obtain new ideas, best practices, and insight on the overall canine training program.

Number of Respondents: 150.

Estimated Annual Burden Hours: An estimated 150 hours annually.

Issued in Arlington, Virginia, on October 10, 2006.
Lisa S. Dean,
Privacy Officer.

[FR Doc. E6-17132 Filed 10-13-06; 8:45 am]

BILLING CODE 9110-05-P